DEPARTMENT OF COMMERCE

International Trade Administration

Tulane University, et al.; Notice of Decision on Applications for Duty-Free Entry of Scientific Instruments

This is a decision pursuant to Section 6(c) of the Educational, Scientific, and Cultural Materials Importation Act of 1966 (Pub. L. 89-651, as amended by Pub. L. 106-36; 80 Stat. 897; 15 CFR Part 301). Related records can be viewed between 8:30 a.m. and 5 p.m. in Room 3720, U.S. Department of Commerce, 14th and Constitution Ave., NW., Washington, DC 20230.

Comments: None received. Decision: Approved. Reasons: We know of no instruments of equivalent or comparable scientific value to the foreign instruments described below, for the intended purposes, that were being manufactured in the United States at the time of their order.

Docket Number: 11-031. Applicant: Tulane University, 6823 St. Charles Avenue, New Orleans, LA 70118. Instrument: Vitrobot sample preparation robot. Manufacturer: FEI Inc., The Netherlands. Intended Use: See application notice at 76 FR 37319, June 27, 2011.

Docket Number: 11-033. Applicant: Temple University, 1900 N. 13th Street, Philadelphia, PA 19122. Instrument: Super low temperature Scanning Tunneling Microscope. Manufacturer: UNISOKU Co., Ltd., Japan. Intended Use: See application notice at 76 FR 37319, June 27, 2011.

Docket Number: 11-034. Applicant: University of Chicago, Argonne National Laboratory, 9700 South Cass Avenue, Lemont, IL 60439. Instrument: Solar spectrum simulation array system. Manufacturer: Atlas Material Testing Technology, Germany. Intended Use: See application notice at 76 FR 37319, June 27, 2011.

Docket Number: 11-035. Applicant: University of California, Los Angeles, 760 Westwood Plaza, Box 77, Los Angeles, CA 90095. Instrument: Slicescope microscope. Manufacturer: Scientifica Ltd., U.K. Intended Use: See application notice at 76 FR 37319, June 27, 2011.

Docket Number: 11-036. Applicant: Smith College, 44 College Lane, Northampton, MA 01063. Instrument: Quanta 450 Electron Microscope. Manufacturer: FEI Company, Czech Republic. Intended Use: See application notice at 76 FR 37319, June 27, 2011.

Dated: July 19, 2011.
Gregory W. Campbell,
Director, Subsidies Enforcement Office, Office of Policy, Import Administration.

[FR Doc. 2011-18887 Filed 7-25-11; 8:45 am]

BILLING CODE 3510-DS-P